DEPARTMENT OF TRANSPORTATION

Federal Aviation Administration

14 CFR Part 71

[Docket No. FAA-2017-0461; Airspace Docket No. 17-AEA-5]

Proposed Amendment of VOR Federal Airways V-16, V-31, V-93, V-157, V-213, and V-229 in the Vicinity of Patuxent River, MD

AGENCY: Federal Aviation Administration (FAA), DOT.

ACTION: Notice of proposed rulemaking (NPRM).

SUMMARY: This action proposes to amend VHF Omnidirectional Range (VOR) Federal airways V-16, V-31, V-93, V-157, V-213, and V-229 near Patuxent River, MD. The modifications are required due to the planned decommissioning of the Patuxent VORTAC, Patuxent River, MD, navigation aid, which provides navigation guidance for portions of the above routes.

DATES: Comments must be received on or before August 28, 2017.

ADDRESSES: Send comments on this proposal to the U.S. Department of Transportation, Docket Operations, 1200 New Jersey Avenue SE., West Building, Ground Floor, Room W12-140, Washington, DC 20590; telephone: 1 (800) 647-5527 or (202) 366-9826. You must identify FAA Docket No. FAA-2017-0461 and Airspace Docket No. 17-AEA-5 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2017-0461 and Airspace Docket No. 17-AEA-5) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2017-0461 and Airspace Docket No. 17-AEA-5.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order 7400.11A, Airspace Designations and Reporting Points, dated August 3, 2016 and effective September 15, 2016. FAA Order 7400.11A is publicly available as listed in the ADDRESSES section of this document. FAA Order 7400.11A lists Class A, B, C, D, and E airspace areas, air traffic service routes, and reporting points.

The Proposal

The FAA is proposing an amendment to Title 14, Code of Federal Regulations (14 CFR) part 71 to modify the descriptions of VOR Federal airways V-16, V-31, V-93, V-157, V-213, and V-229 due to the planned decommissioning of the Patuxent, MD, VORTAC. The proposed route changes are described below.

V-16: V-16 currently extends between the Los Angeles, CA, VORTAC and the Boston, MA, VOR/DME. Decommissioning of the Patuxent, MD, VORTAC would require modification of that portion of V-16 between the Richmond, VA, VORTAC and the Smyrna, DE, VORTAC as follows. After Richmond, the COLIN, VA, intersection (currently defined by the intersection of the Richmond 039° and the Patuxent, MD, VORTAC 228° radials) would be redefined as the intersection of the Harcum, VA, VORTAC 003°(T)/010°(M) and the Richmond, VA, VORTAC 040°(T)/049°(M) radials. The segments of V-16 between the COLIN, VA, intersection and the Smyrna, DE, VORTAC would be removed. This would result in a gap in the airway between COLIN, VA, intersection and Smyrna, DE, VORTAC. The amended V-16 would extend between the Los Angeles, CA, VORTAC and the COLIN, VA, intersection; and then between the Smyrna, DE, VORTAC and the Boston, MA, VOR/DME.

V-31: V-31 currently extends between the Patuxent, MD, VORTAC and the Nottingham, MD, VORTAC; and between the Baltimore, MD, VORTAC and the intersection of the Rochester, NY, VOR/DME 279° and the Buffalo, NY, VOR/DME 023° radials. The proposed amendment would remove the airway segments between the Patuxent, MD, VORTAC and the Nottingham, MD, VORTAC, leaving the segments extending between the Baltimore, MD, VORTAC and the intersection of the above Rochester, NY, and Buffalo, NY, radials as currently charted.

V-93: V-93 currently extends between the Patuxent, MD, VORTAC and the intersection of the Wilkes-Barre, PA, VORTAC 037° and the Sparta, NJ, VORTAC 300° radials; and between the intersection of the Sparta, NJ, VORTAC 018° and the Kingston, NY, VOR/DME 270° radials and the Bangor, ME, VORTAC. The proposed amendment would remove the segment between the Patuxent, MD, VORTAC and the Baltimore, MD, VORTAC. The amended airway would extend between the Baltimore, MD, VORTAC and the intersection of the Wilkes-Barre, PA, VORTAC 037° and the Sparta, NJ, VORTAC 300° radials; and then the airway would continue from the intersection of the Sparta, NJ, VORTAC 018° and the Kingston, NY, VOR/DME 270° radials to the Bangor, ME, VORTAC, as currently charted.

V-157: V-157 currently extends between the Key West, FL, VORTAC and the Albany, NY, VORTAC. The proposed amendment would modify that portion of the route between the Richmond, VA, VORTAC and the Smyrna, DE, VORTAC as follows. After Richmond, the COLIN, VA, intersection (currently defined by the intersection of the Richmond, VA, VORTAC 039° and the Patuxent, MD, VORTAC 228° radials) would be redefined as the intersection of the Harcum, VA, VORTAC 003°(T)/010°(M) and the Richmond, VA, VORTAC 040°(T)/049°(M) radials. The segments of V-157 between the COLIN, VA, intersection and the Smyrna, DE, VORTAC would be removed. This would result in a gap in the airway between the COLIN, VA, intersection and the Smyrna, DE, VORTAC. The amended V-157 would extend between Key West, FL, and the COLIN intersection; and then between the Smyrna, DE, VORTAC and the Albany, NY, VORTAC.

V-213: V-213 currently extends between the Grand Strand, SC, VORTAC and the Albany, NY, VORTAC. The proposed removal of the Patuxent, MD, VORTAC from the route would require an amendment between the current intersection of the Hopewell, VA, VORTAC 019° and the Brooke, VA, VORTAC 132° radials and the Smyrna, DE, VORTAC. V-213 would be amended as follows. After the intersection of the above Hopewell, VA, VORTAC 019° and the Brooke, VA, VORTAC 132° radials, the airway would proceed to the COLIN, VA, intersection (defined by the intersection of the Harcum, VA, VORTAC 003°(T)/010°(M) and the Richmond, VA, VORTAC 040°(T)/049°(M) radials). The segments of the route between the COLIN intersection, through the Patuxent, MD, VORTAC, to the Smyrna, DE, VORTAC would be removed. The amended V-213 would extend between Grand Strand, SC, VORTAC and the COLIN, VA, intersection; and then between the Smyrna, DE, VORTAC and the Albany, NY, VORTAC. This would result in a gap in the route between the COLIN, VA, intersection and the Smyrna, DE, VORTAC.

V-229: V-229 currently extends between the Patuxent, MD, VORTAC and the Burlington, VT, VOR/DME. The proposed amendment would remove the route segments between the Patuxent, MD, VORTAC and the Atlantic City, NJ, VORTAC. The amended route would extend between the Atlantic City, NJ, VORTAC and the Burlington, VT, VOR/DME.

New navigation aid radials in the route descriptions below are stated in both True (T) and Magnetic (M) degrees. All other listed radials are unchanged and reflect True degrees.

The restricted area exclusionary language in the descriptions of V-16, V-157, and V-229 is updated to reflect current restricted area configurations.

Domestic VOR Federal airways are published in paragraph 6010(a) of FAA Order 7400.11A, dated August 3, 2016 and effective September 15, 2016, which is incorporated by reference in 14 CFR 71.1. The VOR Federal airways listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; Holly Springs, MS; Jacks Creek, TN; Shelbyville, TN; Hinch Mountain, TN; Volunteer, TN; Holston Mountain, TN; Pulaski, VA; Roanoke, VA; Lynchburg, VA; Flat Rock, VA; Richmond, VA; to INT Harcum, VA 003°(T)/010°(M) and Richmond 040°(T)/049°(M) radials. From Smyrna, DE; Cedar Lake, NJ; Coyle, NJ; INT Coyle 036° and Kennedy, NY, 209° radials; Kennedy; INT Kennedy 040° and Calverton, NY 261° radials; Calverton; Norwich, CT; Boston, MA. The airspace within Mexico and the airspace below 2,000 feet MSL outside the United States is excluded. The airspace within Restricted Areas R-5002A, R-5002C, and R-5002D, and the airspace within restricted areas R-4005, R-4006, and R-4007 is excluded during their times of use.

V-31 [Amended]

From Baltimore, MD; INT Baltimore 004° and Harrisburg, PA, 147° radials; Harrisburg; Selinsgrove, PA; Williamsport, PA; Elmira, NY; INT Elmira 002° and Rochester, NY, 120° radials; Rochester; to INT Rochester 279° and Buffalo, NY 023° radials.

V-93 [Amended]

From Baltimore, MD; INT Baltimore 004° and Lancaster, PA, 214° radials; Lancaster; Wilkes-Barre, PA; to INT Wilkes-Barre 037° and Sparta, NJ 300° radials. From INT Sparta 018° and Kingston, NY, 270° radials; Kingston; Pawling, NY; Chester, MA, 12 miles 7 miles wide (4 miles E and 3 miles W of centerline); Keene, NH; Concord, NH; Kennebunk, ME; INT Kennebunk 045° and Bangor, ME, 220° radials; to Bangor.

V-157 [Amended]

From Key West, FL; INT Key West 038° and Dolphin, FL, 244° radials; Dolphin; INT Dolphin 331° and La Belle, FL, 113° radials; La Belle; Lakeland, FL; Ocala, FL; INT Ocala 346° and Taylor, FL, 170° radials; Taylor, FL; Waycross, GA; Alma, GA; Allendale, SC; Vance, SC; Florence, SC; Fayetteville, NC; Kinston, NC; Tar River, NC; Lawrenceville, VA; Richmond, VA; to INT Harcum, VA 003°(T)/010°(M) and Richmond 040°(T)/049°(M) radials. From Smyrna, DE; Woodstown, NJ; Robbinsville, NJ; INT Robbinsville 044° and LaGuardia, NY, 213° radials; LaGuardia; INT LaGuardia 032° and Deer Park, NY, 326° radials; INT Deer Park 326° and Kingston, NY, 191° radials; Kingston, NY; to Albany, NY. The airspace within restricted areas R-4005, R-4006, R-4007, and R-6602A is excluded during their times of use.

V-213 [Amended]

From Grand Strand, SC, via Wilmington, NC; INT Wilmington 352° and Tar River, NC, 191° radials; Tar River; Hopewell, VA; INT Hopewell 019° and Brooke, VA, 132° radials; to INT Harcum, VA 003°(T)/010°(M) and Richmond 040°(T)/049°(M) radials. From Smyrna, DE; INT Smyrna 035° and Robbinsville, NJ, 228° radials; Robbinsville; INT Robbinsville 014° and Sparta, NJ, 174° radials; Sparta; to Albany, NY. The airspace within restricted areas R-4005, R-4006, and R-4007 is excluded during their times of use.

V-229 [Amended]

From Atlantic City, NJ; INT Atlantic City 055° and Colts Neck, NJ, 181° radials; INT Colts Neck 181° and Kennedy, NY, 209° radials; Kennedy; INT Kennedy 040° and Calverton, NY, 261° radials; INT Calverton 261° and Kennedy 053° radials; INT Kennedy 053° and Bridgeport, CT, 200° radials; Bridgeport; Hartford, CT; INT Hartford 040° and Gardner, MA, 195° radials; Gardner; Keene, NH; INT Keene 336° and Burlington, VT, 160° radials; to Burlington. The airspace within restricted areas R-5002B, R-5002E, and R-5002F is excluded during their times of use.

* * * * *

Issued in Washington, DC, on July 5, 2017.
Scott M. Rosenbloom,
Acting Manager, Airspace Policy Group.

[FR Doc. 2017-14524 Filed 7-11-17; 8:45 am]

BILLING CODE 4910-13-P